DEPARTMENT OF HOMELAND SECURITY

Coast Guard

33 CFR Part 117

[Docket No. USCG-2015-0904]

RIN 1625-AA09

Drawbridge Operation Regulation; Atlantic Intracoastal Waterway, John F. Kennedy Space Center/NASA Parkway Bridge, Addison Point, FL

ACTION: Notice of deviation from drawbridge regulation.

SUMMARY: The Coast Guard has issued a temporary deviation from the operating schedule that governs the John F. Kennedy Space Center/NASA Parkway Bridge across the Atlantic Intracoastal Waterway, mile 885.0, Addison Point, FL. For the safety of the participants, this temporary operating schedule will allow the bridge to not open to navigation including tugs with tows, during the Rocketman Triathlon in November.

DATES: This deviation is effective from 7:30 a.m. on November 15, 2015 through 3 p.m. November 15, 2015.

ADDRESSES: The docket for this deviation, [USCG-2015-0904] is available at http://www.regulations.gov.

FOR FURTHER INFORMATION CONTACT: If you have questions about this temporary deviation, call or email LT Storm, Coast Guard Sector Jacksonville, Chief, Prevention Office; telephone 904-564-7563, email Allan.h.storm@uscg.mil.

SUPPLEMENTARY INFORMATION: In order to accommodate the annual Triathlon, a temporary schedule deviation has been authorized for the John F. Kennedy Space Center (NASA) Parkway Bridge, across the Atlantic Intracoastal Waterway, mile 885.0 at Addison Point, FL. This deviation is in effect from 7:30 a.m. to 3 p.m. on November 15, 2015. During this time, the bridge shall remain closed to navigation, including tugs with tows. Currently, the bridge opens as required per 33 CFR 117.261(l). The regulation changes may have a minor impact on vessels transiting the Atlantic Intracoastal Waterway in the vicinity of Addison Point, FL, but will still meet the reasonable needs of navigation.

The John F. Kennedy Space Center (NASA) Parkway Bridge provides a vertical clearance of 27 feet at mean high water in the closed position and a horizontal clearance of 90 feet. Vessels able to pass through the bridge in the closed position may do so at anytime. The bridge will be able to open for emergencies. The Coast Guard will inform users of the waterways through Local and Broadcast Notices to Mariners of the change in operating schedule for the bridge so that vessels can arrange transits to minimize any impact caused by the temporary deviation.

In accordance with 33 CFR 117.35(e), the drawbridge must return to its regular operating schedule immediately following the end of the effective period of this temporary deviation. This deviation from the normal operating regulations is authorized under 33 CFR 117.35.

Dated: 21 October 2015.
Barry Dragon,
Director, Bridge Administration, Seventh Coast Guard District.

[FR Doc. 2015-27115 Filed 10-23-15; 8:45 am]

BILLING CODE 9110-04-P